DEPARTMENT OF COMMERCE

National Oceanic and Atmospheric Administration

RIN 0648-XG965

Pacific Fishery Management Council; Public Meeting

AGENCY: National Marine Fisheries Service (NMFS), National Oceanic and Atmospheric Administration (NOAA), Commerce.

ACTION: Notice of public meetings.

SUMMARY: The Pacific Fishery Management Council (Pacific Council) will convene four Stock Assessment Review (STAR) Panels this year to review new stock assessments for cabezon, big skate, longnose skate, sablefish, cowcod, and gopher/black-and-yellow rockfish (it is anticipated this will be a single assessment of gopher rockfish and black-and-yellow rockfish in combination). These STAR Panel meetings are open to the public. The STAR Panel meetings will also be streamed online in “listen-only” mode for those who want to follow the proceedings remotely.

DATES: The STAR Panel meeting (STAR Panel 1) to review new assessments for cabezon will be held Monday, May 6, 2019 through Friday, May 10, 2019, beginning at 8:30 a.m. Pacific Daylight Time (PDT) and ending at 5:30 p.m. each day, or when business for the day has been completed.

The STAR Panel meeting (STAR Panel 2) to review new assessments for big skate and longnose skate will be held Monday, June 3, 2019 through Friday, June 7, 2019, beginning at 8:30 a.m. and ending at 5:30 p.m. each day, or when business for the day has been completed.

The STAR Panel meeting (STAR Panel 3) to review a new assessment for sablefish will be held Monday, July 8, 2019 through Friday, July 12, 2019, beginning at 8:30 a.m. and ending at 5:30 p.m. each day, or when business for the day has been completed.

The STAR Panel meeting (STAR Panel 4) to review new assessments for cowcod and gopher/black-and-yellow rockfish will be held Monday, July 22, 2019 through Friday, July 26, 2019, beginning at 8:30 a.m. and ending at 5:30 p.m. each day, or when business for the day has been completed.

ADDRESSES: The STAR Panel for cabezon (STAR Panel 1) will be held at the National Marine Fisheries Service, Northwest Fisheries Science Center, Newport Research Station, 2032 SE OSU Drive, Building 955, Newport, OR 97365; telephone: (541) 867-0500.

The STAR Panel for big skate and longnose skate (STAR Panel 2) will be held in the Auditorium at the National Marine Fisheries Service, Northwest Fisheries Science Center, 2725 Montlake Boulevard E, Seattle, WA 98112; telephone: (206) 860-3200 on Monday, June 3 through Wednesday, June 5. The STAR Panel will meet in the Fireside Lounge Room at the Seattle Yacht Club, 1807 E Hamlin St., Seattle, WA 98112; telephone: (206) 325-1000 on Thursday, June 6. The STAR Panel will reconvene on Friday, June 7 in the Auditorium at the National Marine Fisheries Service, Northwest Fisheries Science Center.

The STAR Panel for sablefish (STAR Panel 3) will be held in the Auditorium at the National Marine Fisheries Service, Northwest Fisheries Science Center, 2725 Montlake Boulevard E, Seattle, WA 98112; telephone: (206) 860-3200.

The STAR Panel for cowcod and gopher/black-and-yellow rockfish (STAR Panel 4) will be held at the National Marine Fisheries Service, Southwest Fisheries Science Center, Santa Cruz Laboratory, 110 McAllister Way, Santa Cruz, CA 95060; telephone: (831) 420-3900.

To attend the webinar for STAR Panel 1, visit: https://nwfscfram.webex.com/nwfscfram. Enter the Webinar Access Code, which is 628-714-189, and your name and email address (required). After logging into the webinar, dial the TOLL number (not a toll-free number) 1-650-479-3208; you must use your telephone for the audio portion of the meeting.

Note: We have disabled Mic/Speakers as an option and require all participants to use a telephone or cell phone to participate.

To attend the webinar for STAR Panel 2, visit: https://nwfscfram.webex.com/nwfscfram. Enter the Webinar Access Code, which is 626-965-054, and your name and email address (required). After logging into the webinar, dial the TOLL number (not a toll-free number) 1-650-479-3208; you must use your telephone for the audio portion of the meeting.

Note: We have disabled Mic/Speakers as an option and require all participants to use a telephone or cell phone to participate.

To attend the webinar for STAR Panel 3, visit: https://nwfscfram.webex.com/nwfscfram. Enter the Webinar Access Code, which is 623-016-027, and your name and email address (required). After logging into the webinar, dial the TOLL number (not a toll-free number) 1-650-479-3208; you must use your telephone for the audio portion of the meeting.

Note: We have disabled Mic/Speakers as an option and require all participants to use a telephone or cell phone to participate.

To attend the webinar for STAR Panel 4, visit: https://swfsc.webex.com/swfsc. Enter the Webinar Access Code, which is 991-779-038, and your name and email address (required) and the meeting password, which is vp6bswqr. After logging into the webinar, dial the TOLL number (not a toll-free number) 1-415-655-0002; you must use your telephone for the audio portion of the meeting.

Note: We have disabled Mic/Speakers as an option and require all participants to use a telephone or cell phone to participate.

Council address: Pacific Fishery Management Council, 7700 NE Ambassador Place, Suite 101, Portland, OR 97220.

FOR FURTHER INFORMATION CONTACT: Ms. Stacey Miller, NMFS Northwest Fisheries Science Center; telephone: (541) 867-0535; or Mr. John DeVore, Staff Officer, Pacific Fishery Management Council; telephone: (503) 820-2413.

SUPPLEMENTARY INFORMATION: The purpose of the STAR Panels is to review draft 2019 stock assessment documents and any other pertinent information for new benchmark stock assessments for cabezon, big skate, longnose skate, sablefish, cowcod, and gopher/black-and-yellow rockfish; work with the Stock Assessment Teams to make necessary revisions; and produce STAR Panel reports for use by the Pacific Council family and other interested persons for developing management recommendations for fisheries in 2021 and beyond. No management actions will be decided by the STAR Panels. The STAR Panel participants' role will be development of recommendations and reports for consideration by the Pacific Council at its September meeting in Boise, ID.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the STAR Panels to take final action to address the emergency.

Visitors who are foreign nationals (defined as a person who is not a citizen or national of the United States) will require additional security clearance to access the NMFS Northwest and Southwest Fisheries Science Centers. Foreign national visitors should contact Ms. Stacey Miller at (541) 867-0535 at least 2 weeks prior to the meeting date to initiate the security clearance process.

Special Accommodations

These meetings are physically accessible to people with disabilities. Requests for sign language interpretation or other auxiliary aids should be directed to Mr. Kris Kleinschmidt, (503) 820-2280, at least 10 days prior to the meeting date.

Dated: April 10, 2019.
Rey Israel Marquez,
Acting Deputy Director, Office of Sustainable Fisheries, National Marine Fisheries Service.

[FR Doc. 2019-07448 Filed 4-12-19; 8:45 am]

BILLING CODE 3510-22-P